DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of December 2004.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B) (II.B) (No shift in production to a foreign country) have not been met.

TA-W-55,935; DHS Veneer, subsidiary of Faces by Bacon, Inc., Thomasville, NC

TA-W-55,959; Sterling Chemicals, Inc., Texas City, TX

TA-W-55,990; Eastman House, Div. of Chittenden & Eastman Burlington, IA

TA-W-56,006; LaCrosse Footwear, Claremont, NJ

TA-W-56,038; SOSpenders, Inc., a subsidiary of Watermark Paddlesports, Inc., Fruitland, ID

TA-W-55,724; Ranbar Electrical Materials, Inc., including on-site leased workers of Clowa, Manor, PA

TA-W-55,948; Dixie Wrap, Inc., Taylors, SC

TA-W-56,116; Northwestern AG, Chattoroy, WA

TA-W-55,907; Glaxosmithkline, Bristol, TN

TA-W-55,951; Graham Packaging Co., New Kensington Plant, including on-site leased workers of Adecco Employment Services and Carol Harris Staffing, New Kensington, PA

TA-W-55,905; Mediacopy Texas, Inc., a division of Infodisc USA, including leased workers of Adecco, Labor Force and Select, El Paso, TX

TA-W-55,876; Frito-Lay, Inc., a div. of Pepsico, Inc., including on-site leased workers of Volt Temporary Services, Beaverton, OR

TA-W-55,939; General-Electro Mechanical Corp. (GEMCOR), West Seneca, NY

TA-W-56,055; North Star Steel, a subsidiary of Cargill, Inc., Edina, MN

TA-W-55,851; Quebecor World, Effingham, IL

TA-W-56,010; Milwaukee Electric Tool Co., Brookfield, WI

TA-W-56,005A; LL East, Inc., Springville, UT

TA-W-56,019; Millstone Industries LLC, Redmond, OR

All workers engaged in the production of closures are denied eligibility to apply for adjustment assistance under Section 223 of the Trade Act of 1974.

The workers firm does not produce an article as required for certification under Section 222 of the Trade Act of 1974.

TA-W-56,047; Sitel Corp., Augusta, GA

TA-W-55,923; OOCL (USA), Inc., Bothell, WA

TA-W-56,105; Visionair, Inc., Castle Hayne, NC

TA-W-56,066; Lastra America Corp., Danbury, CT

TA-W-56,066; Lastra America Corp., Danbury, CT

TA-W-55,971; Davis Sales Associates, Hickory, NC

TA-W-56,186; Worldtronics International, Inc., Oglesby, IL

TA-W-56,094; AT&T Call Center, Charleston, WV

TA-W-56,096; Gasque Plumbing Co., Inc., Myrtle Beach, SC

TA-W-56,080; Sandisk Corp., Flash Memory Group, Sunnyvale, CA

TA-W-56,133; Eisenberg International Corp., San Fernando, CA

TA-W-55,962; Expedia Corporate Travel, a subsidiary of Interactive Corp., a wholly-owned subsidiary of IAC/Interative Corp., Bellevue, WA

TA-W-55,968; Bernette Lingerie Corp., New Holland, PA

TA-W-56,016; Keane, Inc., Jacksonville, FL

TA-W-56,002; Taisho Electric Corp., of America, El Paso, TX

TA-W-56,070; Dallas Airmotive, Inc., Millville, NJ

TA-W-56,182; Cardinal Health, Pharmaceutical Distribution Information Technology Division, Dublin, OH

The investigation revealed that criterion (a)(2)(A)(I.A) and (a)(2)(B)(II.A) (no employment decline) has not been met.

TA-W-56,145; Corning, Inc., Life Sciences Div., Corning, NY

TA-W-56,095; Niden America Corp., Fan Division, Torrington, CT

TA-W-55,997; Celanese Acetate, LLC, Celco Plant, Narrows, VA

TA-W-56,157; Capital City Press, Inc., Publication Services Division, Barre, VT

TA-W-55,911; The Hotsy Corp., Humboldt, IA

The investigation revealed that criterion (a)(2)(A)(I.B) (Sales or production, or both, did not decline) and (a)(2)(B)(II.B) (has shifted production to a country not under the free trade agreement with U.S.) have not been met.

TA-W-55,929; Agere Systems, Inc., Orlando, FL

TA-W-56,042; CPI Card Group, Los Angeles, CA

TA-W-56,121; Robert Bosch Tool Corp., including on-site leased workers of Resource Power, Heber Springs, AR

TA-W-56,000; Lyon Workspace Products, LLC, Subsidiary of L and D Group, Montgomery, IL

TA-W-56,012; NMC Non-Metallic Components, Cuba City, WI

The investigation revealed that criteria (a)(2)(A) (I.C) increased imports and (II.C) (has shifted production to a foreign country) have not been met.

TA-W-55,906; OSRAM Sylvania Products, Inc., Equipment Development Central Manufacturing Operations, Danvers, MA

TA-W-55,994; California Micro Devices, Tempe, AZ

TA-W-55,993; Arvin Meritor, Franklin, IN

The investigation revealed that criteria (2) has not been met. The workers firm (or subdivision) is not a supplier or downstream producer to trade-affected companies.

TA-W-55,960; Hunter Technologies, Inc., Montross, VA

Affirmative Determinations for Worker Adjustment Assistance

The following certifications have been issued; the date following the company name and location of each determination references the impact date for all workers of such determination.

The following certifications have been issued. The requirements of (a)(2)(A) (increased imports) of Section 222 have been met.

TA-W-56,052; Sparta Foundry, Inc., a subsidiary of Kurdziel Industries, Inc., Sparta, MI: November 5, 2003.

TA-W-56,088; Maytag Corp., Newton Laundry Products Div., Newton, IA: November 22, 2003.

TA-W-56,170; Broyhill Furniture Industries, Inc., Pacemaker Furniture Co., Lenoir, NC: December 1, 2003.

TA-W-56,179; More Sewit, LLC, Longmont, CO: December 7, 2003.

TA-W-55,947; Wehadkee Yarn Mills, Rock Mills Div., Roanoke, AL: November 4, 2003.

TA-W-56,144; Heller Industries, Inc., Florham Park, NJ: December 5, 2003.

TA-W-56,063; Roller Derby Skate Corp., Litchfield, IL: November 17, 2003.

TA-W-56,102; DSM Copolymer, Inc., DSM Elastomers Americas Div., a subsidiary of DSM, Addis, LA: November 18, 2003.

TA-W-56,098; International Textile Group, Burlington House, Pioneer Plant, Burlington, NC: August 22, 2004.

TA-W-56,005; LL East, Inc., Vernon, CA: November 12, 2003.

TA-W-55,928; Perky Cap Co., Inc., Eastonton, GA: November 1, 2003.

TA-W-56,020; International Textile Group, Burlington Worldwide, formerly known as Burlington Industries, Richmond Plant, Cordova, NC: February 5, 2004.

TA-W-55,949; Delaware Ribbon Manufacturers, Inc., including on-site leased workers of Centrix, Philadelphia, PA: November 4, 2003.

TA-W-55,865; Saint-Gobain, Containers Div., Maywood, CA: October 27, 2003.

TA-W-56,202; Metolius Mountain Products, Inc., including on-site leased workers from Express Personnel Services, Bend, OR: January 4, 2005.

TA-W-56,069; Spectrum Textured Yarns, Hickory, NC: November 19, 2003.

TA-W-56,045; Regency Home Fashions, Inc., Conover, NC: November 11, 2003.

TA-W-56,017; Ganton Technologies, Inc., d/b/a Intermet Racine, Die Casting and Machining/Assembly Div., Sturtevant, WI: November 15, 2003.

TA-W-55,920; Village Smith Furniture Makers, Chattanooga, TN: October 27, 2003.

TA-W-55,900; Alan White Company, Inc., Stamps, AR: October 29, 2003.

TA-W-55,986; Invista S.A.R.L., a subsidiary of Koch Industries, Dacron Industrial Yarn Div., formerly Doing Business as Invista, Inc., a subsidiary of E.I. DuPont De Nemours & Company, Inc., including on-site leased workers of Mundy Company, Kinston, NC: November 5, 2003.

TA-W-55,977; Unifi-Kinston, LLC, formerly d/b/a Invista, S.A.R.L, a subsidiary of Koch Industries, formerly d/b/a Invista, Inc., a subsidiary of E.I. DuPont De Nemours & Co., Inc., including on-site leased workers from Mundy Companies and Standard Corp., Kinston, NC: November 3, 2003.

TA-W-55,956; Sunrise Apparel, Inc., Concord, NC: November 5, 2003.

TA-W-56,130; Beacon Looms, Inc., Teaneck, NJ: December 1, 2003.

TA-W-56,084; Auburn Foundry, Plant #1, Auburn, IN: November 16, 2003.

TA-W-55,976; Anna Sportswear, Inc., Pen Argyl, PA: November 9, 2003.

TA-W-56,061; Sunrise Hosiery of Georgia, Inc., Lafayette, GA: November 12, 2003.

TA-W-56,159; T&R Knitting Mills, Inc., Glendale, NY: December 3, 2003.

TA-W-56,129; Dimensions Acquisitions, LLC, Inkadinkado Division, including on-site leased workers from New England Work Service, Woburn, MA: November 22, 2003.

TA-W-55,983; SEH America, Inc., a subsidiary of Shin ETSU Handotai, including on-site leased workers from Spectral and Volt, Vancouver, WA: November 10, 2003.

TA-W-56,075; Anchor Glass Container Co., Connellsville, PA: November 16, 2003.

TA-W-56,067; Alltrista Consumer Products Company, Cloquet Div., including leased workers of Diamond Brands, Inc., Cloquet, MN: November 19, 2003.

TA-W-56,032; Toolmasters, Inc., Longmont, CO: November 16, 2003.

TA-W-56,024; Fedders North America, Inc., Effingham, IL: September 27, 2004.

TA-W-55,988 & A; Cecil Saydah Company, Corporate Head Quarters, Los Angeles, CA and Louisville Saydah Home Fashion, Eminence, KY: November 10, 2003.

TA-W-55,970; Cecil Saydah Company, CS International, Somerset, KY: November 8, 2003.

TA-W-55,989; Delta Mills, Inc., div. of Delta Woodside Industries, Inc., Corporate Headquarters, Greenville, SC, A; Beattie Plant, Fountain Inn, SC, B; Delta Plant #2, Wallace, SC, C; Delta Plant #3, Wallace, SC, D; Pamplico Plant, Pamplico, SC and E; Sales Office, New York, NY: November 2, 2003.

TA-W-55,967; Lozier Corp., Joplin, MO: November 2, 2003.

TA-W-55,836; Frito-Lay, Inc., a div. of Pepsico, Inc., Allen Park, MI: October 15, 2003.

TA-W-55,996; Union Wadding Co., Pawtucket, RI: November 9, 2003.

TA-W-56,004; Acme Cutting and Sewing, Inc., Chatsworth, CA: November 1, 2003.

TA-W-56,087; Delphi Automotive Systems, Delphi AHG Div., Anaheim, CA: November 16, 2003.

TA-W-56,204; Teleflex Automotive Group, including leased workers from Dominion Staffing Services, Inc., Lebanon, VA: December 8, 2003.

TA-W-56,159; T&R Knitting Mills, Inc., Glendale, NY: December 3, 2003.

The following certifications have been issued. The requirements of (a)(2)(B) (shift in production) of Section 222 have been met.

TA-W-55,980; Meadwestvaco Corp., Corporate Research Group, Chillicothe, OH: November 11, 2003.

TA-W-55,921; AG World Support Systems, LLC, a subsidiary of AG World Group, on-site workers at J.R. Simplot Co., Hermiston, OR: November 2, 2003.

TA-W-56,141; Acme-McCrary Corp., a subsidiary of Acme-McCrary Corp., formerly known as Phanton USA, Inc., Wilkesboro, NC: November 23, 2003.

TA-W-56,122; Siemens Energy and Automation, Inc., Power Distribution & Controls Div., Tucker, GA: November 18, 2003.

TA-W-56,110; Broyhill Furniture Industries, Inc., Broyhill/National Veneer Plant, a wholly owned subsidiary of Furniture Brands International, Inc., Lenoir, NC: November 19, 2003.

TA-W-56,015; Straits Steel & Wire Co., Greenville, MI: November 11, 2003.

TA-W-55,841; Owens Corning, Duncan, SC: October 18, 2003.

TA-W-56,014; Loadell Emery, d/b/a Oxford Automotive, Alma, MI: November 15, 2003.

TA-W-56,115; Action Knitwear, Inc., Bean Station, TN: November 19, 2003.

TA-W-56,007; VF Jeanswear Limited Partnership, Dedicated Logistics Div., Subsidiary of VF Corporation, El Paso, TX: November 11, 2003.

TA-W-55,904; Agilent Technologies, Inc., Wireless Semiconductor Div., including on-site leased workers of Manpower, Inc., Fort Collins, CO: October 19, 2003.

TA-W-55,891; Wilsonart International, Inc., a subsidiary of ITW, Temple, TX: October 21, 2003.

TA-W-56,177; Wyeth Pharmaceuticals, including leased workers of Kelly Scientific Resources and Kelly Services, Marietta, PA: November 30, 2003.

TA-W-56,119; Osram Sylvania, Waldoboro, ME: November 30, 2003.

TA-W-55,979; VF Intimates, LP, Monroeville Cutting Facility, Monroeville, AL: November 10, 2003.

TA-W-55,984; HE Microwave Corp., A Joint Venture of Raytheon Missile Systems and The Delphi Corp., including leased workers of Manpower, Tucson, AZ: November 12, 2003.

TA-W-56,076; Lakewood Dyed Yarns, a subsidiary of Mastercraft Fabrics, LLC, Joan Fabrics Corp., Cramerton, NC: November 16, 2003.

TA-W-56,011; Eaton Corporation, Clutch Div., Auburn, IN: October 26, 2003.

TA-W-56,050; Leach Company, Inc., Oshkosh, WI: November 19, 2003.

TA-W-56,049; Black and Decker, including leased workers of Employment Control, Inc., Fayetteville, NC: November 18, 2003.

TA-W-56,035; Motion Water Sports, Inc., Formerly Known as Triton Sports, Auburn Div., Auburn, WA: November 17, 2003.

TA-W-56,171; Lear Corporation, Seating Systems Division, Hazelwood, MO: December 6, 2003.

TA-W-56,164; Corhart Refractories, div of Saint-Gobain Ceramics and Plastics, Inc., Louisville, KY: December 6, 2003.

TA-W-56,117; Peco Manufacturing Co., Inc., Portland, OR: November 22, 2003.

TA-W-56,208; Federal-Mogul Wiper Products, a subsidiary of Federal-Mogul, including on-site leased workers from Manpower and Kelly Services, Michigan City, IN: November 18, 2003.

TA-W-56,123; Wellington Cordage, LLC, Greensboro, GA: November 9, 2003.

TA-W-56,100; CHF Industries, Inc., Loris, SC: November 29, 2003.

TA-W-56,106; Eaton Corporation, Airflex Div., Cleveland, OH: November 24, 2003.

TA-W-56,149; Honeywell International, Transportation Systems/Friction Materials Div., Cleveland, TN: December 3, 2003.

TA-W-55,931; Advanced Energy Industries, Inc., Operations Div., including on-site leased workers of Adecco Temporary Services, Fort Collins, CO: November 1, 2003.

TA-W-56,022; Impressions Book and Journal, Madison, WI: November 12, 2003.

TA-W-56,041; Fawn Plastics, Middlesex, NC: November 16, 2003.

TA-W-56,124; Associated Rubber Co., Calhoun, GA and including on-site leased workers from Ashton and Randstad, Tallapoosa, GA: December 2, 2003.

The following certifications have been issued. The requirement of upstream supplier to a trade certified primary firm has been met.

TA-W-56,085; A & W Screen Printing, Inc., including leased workers of Mack Employment Services, Inc., Berks & Beyond Employment, Gage Personnel, Advance Personnel, Business Staffing Services and Spherion, Ephrata, PA: November 18, 2003.

TA-W-55,919; Macsteel Service Centers USA, Inc., Stainless and Aluminum, Liverpool, NY: October 18, 2003.

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department as determined that criterion (2) of Section 246 has not been met. Workers at the firm possess skills that are easily transferable.

TA-W-55,899; Merchants Metals, a division of MMI Products, Inc., San Francisco, CA

TA-W-55,937; Cherry Corp., Cherry Automotive Div., Waukegan, IL

TA-W-55,854; Amcor PET Packaging, Merrimack, NH

TA-W-55,952; CMD Apparel, LLC, Detroit, AL

TA-W-55,944; Premium Allied Tool, Inc., a division The Hines Group, Owensboro, KY

TA-W-56,149; Honeywell International, Transportation Systems/Friction Materials Div., Cleveland, TN

TA-W-55,931; Advanced Energy Industries, Inc., Operations Div., including on-site leased workers of Adecco Temporary Services, Fort Collins, CO

TA-W-56,022; Impressions Book and Journal, Madison, WI

TA-W-56,041; Fawn Plastics, Middlesex, NC

TA-W-56,124 & A; Associated Rubber Co., Calhoun, GA and including on-site leased workers from Ashton and Randstad, Tallapoosa, GA

TA-W-52,376; Delphi Corp., Delphi Energy Chassis Systems Div., Kettering, OH

TA-W-55,967; Lozier Corp., Joplin, MO

TA-W-55,836; Frito-Lay, Inc., a div. of Pepsico, Inc., Allen Park, MI

TA-W-55,996; Union Wadding Co., Pawtucket, RI

TA-W-56,004; Acme Cutting and Dewing, Inc., Chatsworth, CA

TA-W-56,087; Delphi Automotive Systems, Delphi AHG Div., Anaheim, CA

TA-W-56,204; Teleflex Automotive Group, including leased workers from Dominion Staffing Services, Inc., Lebanon, VA

TA-W-56,019; Millstone Industries LLC, Redmond, OR

All workers engaged in the production of laminated products are denied eligibility to apply for alternative trade adjustment under Section 246 of the Trade Act of 1974.

The Department as determined that criterion (1) of Section 246 has not been met. Workers at the firm are 50 years of age or older.

TA-W-56,159; T&R Knitting Mills, Inc., Glendale, NY

Since the workers are denied eligibility to apply for TAA, the workers cannot be certified eligible for ATAA.

TA-W-55,935; DHS Veneer, Subsidiary of Faces by Bacon, Inc., Thomasville, NC

TA-W-55,959; Sterling Chemicals, Inc., Texas City, TX

TA-W-55,990; Eastman House, Div. of Chittenden & Eastman, Burlington, IA

TA-W-56,006; LaCrosse Footwear, Claremont, NJ

TA-W-56,038; SOSpenders, Inc., a subsidiary of Watermark Paddlesports, Inc., Fruitland, ID

TA-W-55,724; Ranbar Electrical Materials, Inc., including on-site leased workers of Clowa, Manor, PA

TA-W-55,948; Dixie Wrap, Inc., Taylors, SC

TA-W-56,116; Northwestern AG, Chattaroy, WA

TA-W-55,907; Glaxosmithkline, Bristol, TN

TA-W-56,005A; LL East, Inc., Springville, UT

TA-W-55,951; Graham Packaging Co., New Kensington Plant, including on-site leased workers of Adecco Employment Services and Carol Harris Staffing, New Kensington, PA

TA-W-55,905; Mediacopy Texas, Inc., a division of Infodisc USA, including leased workers of Adecco, Labor Force and Select, El Paso, TX

TA-W-55,876; Frito-Lay, Inc., a division of Pepsico, Inc., including on-site leased workers of Volt Temporary Services, Beaverton, OR

TA-W-55,939; General-Electro Mechanical Corp. (GEMCOR), West Seneco, NY

TA-W-56,055; North Star Steel, a subsidiary of Cargill, Inc., Edina, MN

TA-W-55,851; Quebecor World, Effingham, IL

TA-W-56,010; Milwaukee Electric Tool Co., Brookfield, WI

TA-W-55,971; Davis Sales Associates, Hickory, NC

TA-W-56,186; Worldtronics International, Inc., Oglesby, IL

TA-W-56,094; AT&T Call Center, Charleston, WV

TA-W-56,096; Gasque Plumbing Co., Inc., Myrtle Beach, SC

TA-W-56,080; Sandisk Corp., Flash Memory Group, Sunnyvale, CA

TA-W-56,133; Eisenberg International Corp., San Fernando, CA

TA-W-55,962; Expedia Corporate Travel, a subsidiary of Interactive Corp., a wholly-owned subsidiary of IAC/InteraActive Corp., Bellevue, WA

TA-W-55,968; Bernette Lingerie Corp., New Holland, PA

TA-W-56,016; Keane, Inc., Jacksonville, PA

TA-W-56,002; Taisho Electric Corporation of America, El Paso, TX

TA-W-56,070; Dallas Airmotive, inc., Millville, NJ

TA-W-56,182; Cardinal Health, Pharmaceutical Distribution Information Technology Division, Dublin, OH

TA-W-56,095; Neden America Corporation, Fan Division, Torrington, CT

TA-W-55,997; Celanese Acetate, LLC, Celco Plant, Narrows, VA

TA-W-56,157; Capital City Press, Inc., Publication Services Div., Barre, VT

TA-W-55,911; The Hotsy Corp., Humboldt, IA

TA-W-55,929; Agere Systems, Inc., Orlando, FL

TA-W-56,042; CPI Card Group, Los Angeles, CA

TA-W-56,121; Robert Bosch Tool Corp., including on-site leased workers of Resource Power, Heber Springs, AR

TA-W-56,000; Lyon Workspace Products, LLC, Subsidiary of L and D Group, Montgomery, IL

TA-W-56,012; NMC Non-Metallic Components, Cuba City, WI

TA-W-55,906; Osram Sylvania Products, Inc., Equipment Development Central Manufacturing Operations, Danvers, MA

TA-W-55,994; California Micro Devices, Tempe, AZ

TA-W-55,993; Arvin Meritor, Franklin, IN

TA-W-55,960; Hunter Technologies, Inc., Montross, VA

TA-W-56,019; Millstone Industries LLC, Redmond, OR

All workers engaged in the production of closures are denied eligibility to apply for alternative trade adjustment assistance under Section 246 of the Trade Act of 1974.

Affirmative Determinations for Alternative Trade Adjdustment Assistance

In order for the Division of Trade Adjustment Assistance to issued a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-55,919; Macsteel Service Centers USA, Inc., Stainless & Aluminum, Liverpool, NY: October 18, 2003.

TA-W-56,102; DSM Copolymer, Inc., DSM Elastomers Americas Div., a subsidiary of DSM, Addis, LA: November 18, 2003.

TA-W-55,928; Perky Cap Company, Inc., Eatonton, GA: November 1, 2003.

TA-W-56,020; International Textile Group, Burlington Worldwide, formerly known as Burlington Industries, Richmond Plant, Cordova, NC: February 5, 2004.

TA-W-55,949; Delaware Ribbon Manufacturers, Inc., including on-site leased workers of Centrix, Philadelphia, PA: November 4, 2003.

TA-W-55,865; Saint-Gobain, Containers Div., Maywood, CA: October 27, 2003.

TA-W-56,202; Metolius Mountain Products, Inc., including on-site leased workers from Express Personnel Services, Bend, OR: January 4, 2005.

TA-W-56,069; Spectrum Textured Yarns, Hickory, NC: November 19, 2003.

TA-W-56,045; Regency Home Fashions, Inc., Conover, NC: November 11, 2003.

TA-W-56,017; Ganton Technologies, Inc., d/b/a Intermet Racine, Die Casting and Machining/Assembly Div., Sturtevant, WI: November 15, 2003.

TA-W-56,017; Ganton Technologies, Inc., d/b/a Intermet Racine, Die Casting and Machining/Assembly Divisions, Sturtevant, WI: November 15, 2003.

TA-W-55,920; Village Smith Furniture Makers, Chattanooga, TN: October 27, 2003.

TA-W-56,019; Millstone Industries LLC, Redmond, OR

All workers engaged in the production of flooring who became totally or partially separated from employment on or after November 11, 2003 are eligible to apply for adjustment assistance under Section 246 of the Trade Act of 1974.

TA-W-55,986; Invista S.A.R.L., a subsidiary of Koch Industries, Dacron Industrial Yarn Div., formerly doing Business as Invista, Inc., a subsidiary of E.I. DuPont De Nemours & Company, Inc., including on-site Leased workers of Mundy Company, Kinston, NC: November 5, 2003.

TA-W-55,900; Alan White Company, Inc., Stamps, AR: October 29, 2003.

TA-W-55,977; Unifi-Kinston, LLC, formerly d/b/a Invista, S.A.R.L, a subsidiary of Koch Industries, formerly d/b/a Invista, Inc., a subsidiary of E. I. DuPont De Nemours & Company, Inc., including on-site leased workers from Mundy Companies and Standard Corp., Kinston, NC: November 3, 2003.

TA-W-55,956; Sunrise Apparel, Inc., Concord, NC: November 5, 2003.

TA-W-56,130; Beacon Looms, Inc., Teaneck, NJ: December 1, 2003.

TA-W-55,976; Anna Sportswear, Inc., Pen Argyl, PA: November 9, 2003.

TA-W-56,084; Auburn Foundry, Plant #1, Auburn, IN: November 16, 2003.

TA-W-56,061; Sunrise Hosiery of Georgia, Inc., Lafayette, GA: November 12, 2003.

TA-W-56,129; Dimensions Acquistions, LLC, Inkadinkado Div., including on-site leased workers from New England Work Service, Woburn, MA: November 22, 2003.

TA-W-55,983; SEH America, Inc., a subsidiary of Shin ETSU Handotai, including on-site leased workers from Spectral and Volt, Vancouver, WA: November 10, 2003.

TA-W-56,075; Anchor Glass Container Co., Connellsville, PA: November 16, 2003.

TA-W-56,067; Alltrista Consumer Products Co., Cloquet Div., including leased workers of Diamond Brands, Inc., Cloquet, MN: November 19, 2003.

TA-W-56,032; Toolmasters, Inc., Longmont, CO: November 16, 2003.

TA-W-56,024; Fedders North America, Inc., Effingham, IL: September 27, 2004.

TA-W-55,988 &A; Cecil Saydah Company, Corporate Head Quarters, Los Angeles, CA and Louisville Saydah Home Fashion, Eminence, KY: November 10, 2003.

TA-W-55,970; Cecil Saydah Company, CS International, Somerset, KY: November 8, 2003.

TA-W-52,917; Hoover-Allison, Xenia, OH: September 5, 2002, through October 31, 2005.

TA-W-54,051; Ferriot, Inc., Mold Building Division, Akron, OH: January 20, 2003, through March 5, 2006.

TA-W-56,141; Acme-McCrary Corp., a subsidiary of Acme-McCrary Corp., formerly known as Phanton USA, Inc., Wilkesboro, NC: November 23, 2003.

TA-W-56,122; Siemens Energy & Automation, Inc., Power Distribution & Controls Div., Tucker, GA: November 18, 2003.

TA-W-56,110; Broyhill Furniture Industries, Inc., Broyhill/National Veneer Pant, a wholly owned subsidiary of Furniture Brands International, Inc., Lenoir, NC: November 19, 2003.

TA-W-56,015; Straits Steel & Wire Co., Greenville, MI: November 11, 2003.

TA-W-55,841; Owens Corning, Duncan, SC: October 18, 2003.

TA-W-56,014, Loadell Emery, d/b/a Oxford Automotive, Alma, MI: November 15, 2003.

TA-W-56,115; Action Knitwear, Inc., Bean Station, TN: November 19, 2003.

TA-W-56,007; VF Jeanswear Limited Partnership, Dedicated Logistics Division, subsidiary of VF Corporation, El Paso, TX: November 11, 2003.

TA-W-55,891; Wilsonart International, Inc., a subsidiary of ITW, Temple, TX: October 21, 2003.

TA-W-56,119; Osram Sylvania, Waldoboro, ME: November 30, 2003.

TA-W-56,177; Wyeth Pharmaceuticals, including leased workers of Kelly Scientific Resources and Kelly Services, Marietta, PA: November 30, 2003.

TA-W-55,979; VF Intimates, LP, Monroeville Cutting Facility, Monroeville, AL: November 10, 2003.

TA-W-55,984; HE Microwave Corporation, A Joint Venture of Raytheon Missile Systems and The Delphi Corporation, including leased workers of Manpower, Tucson, AZ: November 12, 2003.

TA-W-56,076; Lakewood Dyed Yarns, a subsidiary of Mastercraft Fabrics, LLC, Joan Fabrics Corporation, Cramterton, NC: November 16, 2003.

TA-W-55,904; Agilent Technologies, Inc., Wireless Semiconductor Div., including on-site leased workers of Manpower, Inc., Fort Collins, CO: October 19, 2003.

TA-W-56,011; Eaton Corp., Clutch Div., Auburn, IN: October 26, 2003.

TA-W-56,050; Leach Company, Inc., Oshkosh, WI: November 19, 2003.

TA-W-56,049; Black and Decker, including leased workers of Employment Control, Inc., Fayetteville, NC: November 18, 2003.

TA-W-56,100; CHF Industries, Inc., Loris, SC: November 29, 2003.

TA-W-56,035; Motion Water Sports, Inc., Formerly Known as Triton Sports, Auburn Div., Auburn, WA: November 17, 2003.

TA-W-56,171; Lear Corp., Seating Systems Div., Hazelwood, MO: December 6, 2003.

TA-W-56,164; Corhart Refractories, Div. of Saint-Gobain Ceramics & Plastics, Inc., Louisville, KY: December 6, 2003.

TA-W-56,117; Peco Manufacturing Company, Inc., Portland, OR: November 22, 2003.

TA-W-56,208; Federal-Mogul Wiper Products, a subsidiary of Federal-Mogul, including on-site leased workers from Manpower and Kelly Services, Michigan City, IN: November 18, 2003.

TA-W-56,123; Wellington Cordage, LLC, Greensboro, GA: November 9, 2003.

TA-W-56,106; Eaton Corporation, Airflex Div., Cleveland, OH: November 24, 2003.

TA-W-55,989; Delta Mills, Inc., div. of Delta Woodside Industries, Inc., Corporate Headquarters, Greenville, SC, A; Beattie Plant, Fountain Inn, SC, B; Delta Plant #2, Wallace, SC, C; Delta Plant #3, Wallace, SC, D; Pamplico Plant, Pamplico, SC, E; Sales Office, New York: November 2, 2003.

TA-W-56,005; LL East, Inc., Vernon, CA: November 12, 2003.

I hereby certify that the aforementioned determinations were issued during the month of December 2004. Copies of these determinations are available for inspection in Room C-5311, U.S. Department of Labor, 200 Constitution Avenue, NW., Washington, DC, 20210 during normal business hours or will be mailed to persons who write to the above address.

Dated: January 12, 2005.
Timothy Sullivan,
Director, Division of Trade Adjustment Assistance.

[FR Doc. E5-250 Filed 1-21-05; 8:45 am]

BILLING CODE 4510-30-P